DEPARTMENT OF COMMERCE

National Oceanic and Atmospheric Administration

Federal Consistency Appeal by Electric Boat Corporation of New York State Department of State Objection

AGENCY: National Oceanic and Atmospheric Administration (NOAA), Department of Commerce (DOC).

ACTION: Notice of closure—administrative appeal decision record.

SUMMARY: This announcement provides notice that the decision record has closed for an administrative appeal filed with the Department of Commerce by Electric Boat Corporation requesting that the Secretary of Commerce (Secretary) override an objection by the New York State Department of State to a consistency certification for a proposed project to dispose of dredged material in the Eastern Long Island Sound Dredged Material Disposal Site.

DATES: The decision record for Electric Boat Corporation's Federal consistency appeal of New York State Department of State's objection closed on August 31, 2020.

ADDRESSES: NOAA has provided access to publicly available materials and related documents comprising the appeal record on the following website: https://www.regulations.gov/docket?D=NOAA-HQ-2020-0021.

FOR FURTHER INFORMATION CONTACT: For questions about this Notice, contact Lauren Bregman, NOAA Office of the General Counsel, Oceans and Coasts Section, 1305 East-West Highway, Room 6111, Silver Spring, MD 20910, (301) 713-7389, lauren.bregman@noaa.gov.

SUPPLEMENTARY INFORMATION: On January 24, 2020, the NOAA Administrator, pursuant to authority delegated by the Secretary to decide Coastal Zone Management Act of 1972 (CZMA) federal consistency appeals, received a “Notice of Appeal” filed by Electric Boat Corporation (EBC or “Appellant”) under the CZMA, 16 U.S.C. 1451 et seq., and implementing regulations found at 15 CFR part 930, subpart H. The Notice of Appeal is taken from an objection by the New York State Department of State to Appellant's consistency certification for a proposed U.S. Army Corps of Engineers permit to dispose of dredged material in the Eastern Long Island Sound Dredged Material Disposal Site.

Under the CZMA, the NOAA Administrator may override New York State Department of State's objection on grounds that the project is consistent with the objectives or purposes of the CZMA, or is necessary in the interest of national security. To make the determination that the proposed activity is “consistent with the objectives or purposes of the CZMA,” the Department of Commerce must find that: (1) The proposed activity furthers the national interest as articulated in sections 302 or 303 of the CZMA, in a significant or substantial manner; (2) the national interest furthered by the proposed activity outweighs the activity's adverse coastal effects, when those effects are considered separately or cumulatively; and (3) no reasonable alternative is available that would permit the proposed activity to be conducted in a manner consistent with the enforceable policies of the applicable coastal management program. 15 CFR 930.121. To make the determination that the proposed activity is “necessary in the interest of national security,” the NOAA Administrator must find that a national defense or other national security interest would be significantly impaired if the proposed activity is not permitted to go forward as proposed. 15 CFR 930.122.

The NOAA Administrator must close the decision record in a federal consistency appeal 160 days after the Notice of Appeal is published in the Federal Register. 15 CFR 930.130(a)(1). The CZMA, though, authorizes the NOAA Administrator to stay the closing of the decision record for up to 60 days when the NOAA Administrator determines it is necessary to receive, on an expedited basis, any supplemental information specifically requested by the NOAA Administrator to complete a consistency review. 15 CFR 930.130(a)(2), (3). Consistent with the above schedule, the decision record for EBC's Federal consistency appeal of New York State Department of State's objection closed on August 31, 2020. No further information or briefs will be considered in deciding this appeal.

NOAA has provided access to publicly available materials and related documents comprising the appeal record on the following website: https://www.regulations.gov/docket?D=NOAA-HQ-2020-0021.

Adam Dilts,
Chief, Oceans and Coasts Section, NOAA Office of General Counsel.

[FR Doc. 2020-19240 Filed 8-31-20; 8:45 am]

BILLING CODE 3510-JE-P